NUCLEAR REGULATORY COMMISSION

10 CFR Parts 170 and 171

[NRC-2023-0069]

RIN 3150-AK95

Fee Schedules; Fee Recovery for Fiscal Year 2025

AGENCY: Nuclear Regulatory Commission.

ACTION: Final rule; correction.

SUMMARY: The U.S. Nuclear Regulatory Commission (NRC) is correcting a final rule that was published in the Federal Register on June 24, 2025, regarding the amendment of licensing, inspection, special project, and annual fees charged to NRC's applicants and licensees. This action is necessary to correct a typo to the dollar amount in the schedule of materials annual fees and fees for Government agencies licensed by the NRC.

DATES: The correction takes effect on August 25, 2025.

ADDRESSES: Please refer to Docket ID NRC-2023-0069 when contacting the NRC about the availability of information for this action. You may obtain publicly available information related to this action by any of the following methods:

• Federal Rulemaking Website: Go to https://www.regulations.gov and search for Docket ID NRC-2023-0069. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based Public Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: William Blaney, Office of the Chief Financial Officer, U.S. Nuclear Regulatory Commission, Washington, DC 20555-0001; telephone: 301-415-5092; email: William.Blaney@nrc.gov.

SUPPLEMENTARY INFORMATION: The NRC may post materials related to this document, including public comments, on the Federal rulemaking website at https://www.regulations.gov under Docket ID NRC-2023-0069. In addition, the Federal rulemaking website allows members of the public to receive alerts when changes or additions occur in a docket folder. To subscribe: (1) navigate to the docket folder (NRC-2023-0069); (2) click the “Subscribe” button; and (3) enter an email address and click on the “Subscribe” button.

In the interest of clarity and transparency, the NRC is correcting the amount of “26,800” for Basic In Situ Recovery facilities in Table 2 to Paragraph (d) to 10 CFR 171.16 in the amendatory text to the final rule, published at 90 FR 26761 on June 24, 2025, to the amount of “27,700”. The correction to the typo in the amendatory text aligns with the amount of “27,700” as described in the preamble at Table V, Rebaselined Annual Fees, as published at 90 FR 26735, and in the second column, lines 11 and 12, and Table XIV, Annual Fees for Uranium Recovery Licensees, as published at 90 FR 26739.

Correction

In FR Doc. 2025-11544, published at 90 FR 26730 on June 24, 2025, the NRC makes the following correction to amendatory instruction 8, in table 2 to paragraph (d):

§ 171.16 [Corrected]

On page 26761, the table titled “Table 2 to Paragraph (d)—Schedule of Materials Annual Fees And Fees For Government Agencies Licensed By NRC,” in the second table entry for “[Program Code(s): 11500]”, second table column, “Annual fees”, correct the amount of “26,800” to read “27,700”.

Dated: July 24, 2025.
For the Nuclear Regulatory Commission.
Araceli Billoch Colon,
Chief, Regulatory Analysis and Rulemaking Support Branch, Division of Rulemaking, Environmental, and Financial Support, Office of Nuclear Material Safety and Safeguards.

[FR Doc. 2025-14147 Filed 7-25-25; 8:45 am]

BILLING CODE 7590-01-P